DEPARTMENT OF ENERGY

Federal Energy Regulatory Commission

[Project No. 2972-027]

City of Woonsocket; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2972-027.

c. Date filed: November 1, 2018.

d. Applicant: City of Woonsocket, Rhode Island (City).

e. Name of Project: Woonsocket Falls Project.

f. Location: On the Blackstone River in the City of Woonsocket, Providence County, Rhode Island. The project diverts water from the impoundment created by the U.S. Army Corps of Engineers' (Corps) Woonsocket Falls Dam; however, there are no federal or tribal lands within the project boundary.

g. Filed Pursuant to: Federal Power Act 16 U.S.C. 791(a)-825(r).

h. Applicant Contact: Mr. Michael Debroisse, City of Woonsocket, Engineering, 169 Main Street, Woonsocket, RI 02895; (401) 767-9213.

i. FERC Contact: Patrick Crile, (202) 502-8042 or Patrick.Crile@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 31, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2972-027.

m. The application is not ready for environmental analysis at this time.

n. The City electronically filed the application with the Commission after the close of business on October 31, 2018. Pursuant to 18 CFR 385.2001(a)(2), any document received after regular business hours is considered filed on the next regular business day. By this notice, the requirement under 18 CFR 16.20(c) to file the subsequent license application at least 24 months before the expiration of the existing license (i.e., no later than October 31, 2018) is waived.

o. The Woonsocket Falls Project utilizes water from the impoundment created by the Corps' Woonsocket Falls Dam, and consists of: (1) A 14-foot-wide, 20.5-foot-high concrete intake structure located about 60 feet upstream of the Woonsocket Falls Dam and fitted with a 12-foot-wide, 18-foot-high steel trash rack having 3.5-inch clear bar spacing; (2) a 275-foot long, 12-foot-wide, 10-foot-high concrete penstock; (3) a 65-foot-long, 25-foot-wide, 20-foot-high concrete powerhouse containing one adjustable blade turbine-generator unit with an authorized capacity of 1,200 kilowatts; (4) a 50-foot-long, 12.5-foot-diameter steel draft tube; (5) an approximately 50-foot-long, 20-foot-wide, 15-foot-deep tailrace; (6) a 35-foot-long 4.16 kilovolt (kV) generator lead line, a 4.16/13.8-kV step-up transformer, a 1,200-foot-long, and a 13.8-kV transmission line connecting the project generator to the regional grid; and (7) appurtenant facilities.

The project bypasses approximately 360 feet of the Blackstone River and there is currently no required minimum instream flow for the bypassed reach. However, the City operates the project in a run-of-river (ROR) mode and voluntarily maintains a minimum flow of 20 cubic feet per second (cfs) over the crest of the dam to the bypassed reach using an automatic pond level controller. The Woonsocket Falls project has an average annual generation of approximately 4,580 megawatt-hours.

The City proposes to: (1) Continue operating the project in a ROR mode; (2) provide a year-round minimum flow of 20 cfs into the bypassed reach; (3) provide upstream eel passage at the project; and (4) implement targeted nighttime turbine shutdowns to facilitate downstream eel passage.

p. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

q. Procedural schedule and final amendments: The application will be processed according to the following preliminary schedule. Revisions to the schedule will be made as appropriate.

Issue Deficiency Letter (if necessary) | January 2019.
Request Additional Information | January 2019.
Issue Acceptance Letter | April 2019.
Issue Scoping Document 1 for comments | May 2019.
Request Additional Information (if necessary) | July 2019.
Issue Scoping Document 2 | August 2019.
Issue Notice of Ready for Environmental Analysis | August 2019.
Issue Notice of Availability of Environmental Assessment | February 2020.

Final amendments to the application must be filed with the Commission no later than 30 days from the issuance date of the notice of ready for environmental analysis.

Dated: November 15, 2018.
Kimberly D. Bose,
Secretary.

[FR Doc. 2018-25472 Filed 11-21-18; 8:45 am]

BILLING CODE 6717-01-P